DEPARTMENT OF THE TREASURY

Office of Investment Security

31 CFR Parts 800 and 802

RIN 1505-AC65

Filing Fees for Notices of Certain Investments in the United States by Foreign Persons and Certain Transactions by Foreign Persons Involving Real Estate in the United States; Correction

AGENCY: Office of Investment Security, Department of the Treasury.

ACTION: Proposed rule; correction.

SUMMARY: On March 9, 2020, the Department of the Treasury published a proposed rule that would establish a fee for parties filing a voluntary notice of certain transactions for review by the Committee on Foreign Investment in the United States. This rule corrects the comment due date for the proposed rule.

DATES: Written comments on the proposed rule on CFIUS filing fees (85 FR 13586) must be received by April 3, 2020.

FOR FURTHER INFORMATION CONTACT: Laura Black, Director of Investment Security Policy and International Relations; Meena R. Sharma, Deputy Director of Investment Security Policy and International Relations; David Shogren, Senior Policy Advisor; or James Harris, Senior Policy Advisor, at U.S. Department of the Treasury, 1500 Pennsylvania Avenue NW, Washington, DC 20220; telephone: (202) 622-3425; email: CFIUS.FIRRMA@treasury.gov.

SUPPLEMENTARY INFORMATION: On March 4, 2020, the proposed rule, “Filing Fees for Notices of Certain Investments in the United States by Foreign Persons and Certain Transactions by Foreign Persons Involving Real Estate in the United States” was filed with the Office of the Federal Register. The proposed rule that was filed included a comment due date that was 30 days after the date of filing. An inadvertent error caused the rule document that was published in the Federal Register on March 9, 2020 (85 FR 13586) to include an incorrect comment due date. This correction confirms the due date for comments on the proposed rule is April 3, 2020.

Correction

In proposed rule document 2020-04641 beginning on page 13586 in the issue of Monday, March 9, 2020, make the following correction:

On page 13586, in the first column, in the DATES section in the 35th line, “April 8, 2020” should read “April 3, 2020”.

Dated: March 10, 2020.
Meena R. Sharma,
Deputy Director, Office of Investment Security Policy and International Relations.

[FR Doc. 2020-05298 Filed 3-13-20; 8:45 am]

BILLING CODE 4810-25-P